ENVIRONMENTAL PROTECTION AGENCY

[EPA-HQ-OPP-2007-1166; FRL-8343-3]

Organic Esters of Phosphoric Acid Risk Assessments Risk Reduction Options; Notice of Availability

AGENCY: Environmental Protection Agency (EPA).

ACTION: Notice.

SUMMARY: This notice announces the availability of EPA's risk assessments, and related documents for the pesticide organic esters of phosphoric acid, and opens a public comment period on these documents. The public is encouraged to suggest risk management ideas or proposals to address the risks identified. EPA is developing a Reregistration Eligibility Decision (RED) for organic esters of phosphoric acid through a modified, 4-Phase public participation process that the Agency uses to involve the public in developing pesticide reregistration decisions. This is Phase 3 of the 4- Process. Through this program, EPA is ensuring that all pesticides meet current health and safety standards.

DATES: Comments must be received on or before March 17, 2008.

ADDRESSES: Submit your comments, identified by docket identification (ID) number EPA-HQ-OPP-2007-1166, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation 8:30 a.m. to 4 p.m., Monday through Friday, excluding legal holidays. Special arrangements should be made for deliveries of boxed information. The Docket Facility telephone number is (703) 305-5805.

Instructions: Direct your comments to docket ID number EPA-HQ-OPP-2007-1166. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Heather Garvie, Antimicrobials Division (7510P), Office of Pesticide Programs, Environmental Protection Agency, 1200 Pennsylvania Ave., NW., Washington, DC 20460-0001; telephone number: (703) 308-0034; fax number: (703) 305-5620; e-mail address: garvie.heather @epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA is releasing for public comment its human health and environmental fate and effects risk assessments and related documents for organic esters of phosphoric acid, and soliciting public comment on risk management ideas or proposals. Organic esters of phosphoric acid are used as a fungistat and bacteristat largely on carpet backing. Other uses include incorporation into vinyl products, plastics, polymers, coatings, synthetics/nonwoven textiles, sealants, adhesives, caulks, and filters. No direct or indirect food contact uses are approved on registered end-use product labels. EPA developed the risk assessments and risk characterization for organic esters of phosphoric acid through a modified version of its public process for making pesticide reregistration eligibility and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA).

Organic esters of phosphoric acid are registered for use as a material preservative (added during manufacture of product) in such household, industrial, and institutional materials as: carpet backing; epoxy flooring, coating, tile and grout products; vinyl products (wall coverings, car tops, awnings, tarpaulins, tents, sails, drapes, shower curtains, flooring products, and films not for food contact); plastic furniture (not for food service or storage); acrylic, urethane, wax and varnish floor sealers, finishes, and maintainers (carpets shampoos, dry extraction compounds and cleaners, spot removers); polyvinyl acetate indoor and outdoor paints; polymeric laminates (not for food preparation surfaces); polymer concrete; synthetic and non-woven textiles (wall coverings, car tops, awnings, tarpaulins, tents, sails, drapes, shower curtains); polymeric packaging film (not for food contact); water, oil and solvent based paints, stains, and other coating systems for use on interior and exterior surfaces, substrates, machinery and equipment, including heating, ventilating and air conditioning systems; molded polymeric and polymer concrete bath tubs, showers, bathroom sinks, bathroom countertops and bathroom accessories; natural and synthetic polymeric sealants, adhesives and caulking compounds; textile upholstery, mattresses, mattress ticking and mattress covers; vinyl upholstery, mattresses, mattress ticking and covers; topical treatment of textile products including apparel, outerwear and undergarmets; air filters for furnaces, air conditioners, air purification devices, automobiles, and recirculating air handling systems.

EPA is providing an opportunity, through this notice, for interested parties to provide comments and input on the Agency's risk assessments for organic esters of phosphoric acid. Such comments and input could address, for example, the availability of additional data to further refine the risk assessments, such as information regarding the paint/coatings uses, an inhalation toxicity study, or a dermal absorption study and leaching/extraction data to verify the transfer factor for clothing and mattress covers could address the Agency's risk assessment methodologies and assumptions as applied to this specific pesticide.

Through this notice, EPA also is providing an opportunity for interested parties to provide risk management proposals or otherwise comment on risk management for organic esters of phosphoric acid. Risks of concern associated with the use of organic esters of phosphoric acid are: Residential dermal exposure resulting from the application of paint; residential post-application dermal exposure of children and adults to treated mattresses; residential post-application incidental ingestion exposure of children to carpet cleaners; residential post-application dermal exposure of children and adults to treated textiles; and residential post-application incidental ingestion exposure of children to treated textiles; occupational dermal exposure resulting from the application of paint; and occupational inhalation exposure resulting from the application of paint using an airless sprayer. In targeting these risks of concern, the Agency solicits information on effective and practical risk reduction measures.

EPA seeks to achieve environmental justice, the fair treatment and meaningful involvement of all people, regardless of race, color, national origin, or income, in the development, implementation, and enforcement of environmental laws, regulations, and policies. To help address potential environmental justice issues, the Agency seeks information on any groups or segments of the population who, as a result of their location, cultural practices, or other factors, may have atypical, unusually high exposure to organic esters of phosphoric acid, compared to the general population.

EPA is applying the principles of public participation to all pesticides undergoing reregistration and tolerance reassessment. The Agency's Pesticide Tolerance Reassessment and Reregistration; Public Participation Process, published in the Federal Register on May 14, 2004 (69 FR 26819) (FRL-7357-9), explains that in conducting these programs, the Agency is tailoring its public participation process to be commensurate with the level of risk, extent of use, complexity of the issues, and degree of public concern associated with each pesticide. For organic esters of phosphoric acid, a modified, 4-Phase process with one comment period and ample opportunity for public consultation seems appropriate in view of its refined risk assessments, and/or other factors. However, if as a result of comments received during this comment period EPA finds that additional issues warranting further discussion are raised, the Agency may lengthen the process and include a second comment period, as needed.

All comments should be submitted using the methods in ADDRESSES, and must be received by EPA on or before the closing date. Comments will become part of the Agency Docket for organic esters of phosphoric acid. Comments received after the close of the comment period will be marked “late.” EPA is not required to consider these late comments.

B. What is the Agency's Authority for Taking this Action?

Section 4(g)(2) of FIFRA, as amended, directs that, after submission of all data concerning a pesticide active ingredient, “the Administrator shall determine whether pesticides containing such active ingredient are eligible for reregistration,” before calling in product-specific data on individual end-use products and either reregistering products or taking other “appropriate regulatory action.”

List of Subjects

Environmental protection, Antimicrobials, Organic esters of phosphoric acid, and Pesticides pests.

Dated: January 8, 2008.
Frank Sanders,
Director, Antimicrobials Division, Office of Pesticide Programs.

[FR Doc. E8-540 Filed 1-15-08; 8:45 am]

BILLING CODE 6560-50-S